NUCLEAR REGULATORY COMMISSION

Solicitation of Public Comments on Draft NMSS Policy and Procedures Letter 1-82 and Backfit Guidance

AGENCY: Nuclear Regulatory Commission (NRC).

ACTION: Notice of opportunity for comment.

SUMMARY: The NRC's Office of Nuclear Material Safety and Safeguards (NMSS) has drafted guidance for the NRC staff on applying the backfit requirements of 10 CFR part 70 to fuel cycle facilities. The draft guidance is titled, NMSS Policy and Procedures Letter (P&PL) 1-82, “10 CFR part 70 Backfit Guidance.” The P&PL is now available for stakeholder review and comment.

DATES: Written comments must be filed within 30 days of the publication of this Federal Register notice. Comments received after this date will be considered, however the Commission will only be able to ensure the incorporation of comments received on or before this date.

Availability of Documents

A copy of this draft P&PL is available in the NRC's Agency-Wide Document Access and Management System (ADAMS). This document can be viewed by searching for ADAMS accession no. ML030730680. ADAMS is accessible from the NRC Web site at www.nrc.gov/reading-rm/adams.html. Comments should be clear and reproducible, and include name, affiliation (as applicable) and address of sender. Comments on this document must be sent to the Chief, Rules and Directives Branch, ADM, U.S. NRC, Washington, DC, 20555, or may be hand-delivered to 11555 Rockville Pike, Rockville, Maryland, 20852, between the hours of 7:45 a.m. and 4:15 p.m. on Federal work-days. All comments will be made available for public inspection in ADAMS and at the NRC headquarters public document room (PDR). Following evaluation of the comments, changes will be made to the final version of the P&PL and the guidance published for NRC staff use. The draft P&PL is available to read and copy for a fee at the NRC's PDR located at 11555 Rockville Pike, Rockville, Maryland, 20852.

FOR FURTHER INFORMATION CONTACT: Billy Gleaves, Mechanical Systems Engineer, Office of Nuclear Materials Safety and Safeguards, U.S. NRC, Mail Stop T8 A33, Washington, DC, 20555, or by e-mail at bcg@nrc.gov.

SUPPLEMENTARY INFORMATION: The purpose of the draft P&PL 1-82 is to provide guidance to the NRC staff for implementing the backfit provisions in 10 CFR 70.76. In this context, 10 CFR 70.76 will become effective upon issuance of the final NMSS P&PL 1-82 for all Part 70 requirements, except for subpart H, and following NRC approval of a licensee's ISA Summary, the requirements of 10 CFR 70.76 become effective for Subpart H requirements.

The availability of this document is the latest step in an NRC effort to improve the efficiency of the NRC's fuel cycle oversight program and to enable open communications with stakeholders.

Dated at Rockville, Maryland, this 2nd day of June, 2003.
For the Nuclear Regulatory Commission.
Susan M. Frant,
Chief, Division of Fuel Cycle Safety and Safeguards, Office of Nuclear Material Safety and Safeguards.

[FR Doc. 03-14686 Filed 6-10-03; 8:45 am]

BILLING CODE 7590-01-P